ENVIRONMENTAL PROTECTION AGENCY

40 CFR Part 52

[EPA-R03-OAR-2017-0215; FRL-9970-80-Region 3]

Approval and Promulgation of Air Quality Implementation Plans; Virginia; Removal of Clean Air Interstate Rule (CAIR) Trading Programs; Withdrawal of Direct Final Rule

AGENCY: Environmental Protection Agency (EPA).

ACTION: Withdrawal of direct final rule.

SUMMARY: Due to receipt of an adverse comment, the Environmental Protection Agency (EPA) is withdrawing the September 28, 2017 direct final rule (DFR) that approved a revision to the Virginia state implementation plan (SIP). The revision removed from the Virginia SIP regulations from the Virginia Administrative Code that established EPA-administered trading programs under the Clean Air Interstate Rule (CAIR), which were discontinued on December 31, 2014 upon the implementation of the Cross-State Air Pollution Rule (CSAPR). EPA stated in the direct final rule that if EPA received adverse comments by October 30, 2017, the rule would be withdrawn and not take effect. EPA subsequently received an adverse comment. EPA will address the comments received in a subsequent final action based upon the proposed action also published on September 28, 2017. EPA will not institute a second comment period on this action.

DATES: The direct final rule published at 82 FR 45187 on September 28, 2017 is withdrawn effective November 20, 2017.

FOR FURTHER INFORMATION CONTACT: Sara Calcinore, (215) 814-2043, or by email at calcinore.sara@epa.gov.

SUPPLEMENTARY INFORMATION: On January 5, 2017, the Commonwealth of Virginia, through the Virginia Department of Environmental Quality (VADEQ), submitted a SIP revision (Revision D16) that requested removal from its SIP of Virginia Administrative Code regulations that implemented the CAIR annual nitrogen oxide (NOX), ozone season NOX, and annual sulfur dioxide (SO2) trading programs in Virginia. These regulations were replaced by trading programs under the CSAPR federal implementation plan (FIP) on January 1, 2015 (December 3, 2014, 79 FR 71663) and are therefore obsolete and moot.

EPA had approved Virginia's SIP revision removing the CAIR annual NOX, ozone season NOX, and annual SO2 trading programs from the Virginia SIP in the DFR published on September 28, 2017 (82 FR 45187). In this DFR, we stated that if we received adverse comment by October 30, 2017, the rule would be withdrawn and not take effect. EPA subsequently received an adverse comment. On September 28, 2017 (82 FR 45187), EPA simultaneously proposed to approve these revisions to the Virginia SIP. EPA will address the comments received in a subsequent final action based upon this proposed action and will not institute a second comment period on this action.

As a result of the comments received, EPA is withdrawing the DFR approving Virginia's SIP revision related to the removal of the CAIR annual NOX, ozone season NOX, and annual SO2 trading programs from the Virginia SIP.

List of Subjects in 40 CFR Part 52

Environmental protection, Air pollution control, Incorporation by reference, Nitrogen dioxide, Ozone, Reporting and recordkeeping requirements, Sulfur oxides.

Dated: November 3, 2017.
Cosmo Servidio,
Regional Administrator, Region III.

Accordingly, the amendments to 40 CFR 52.2420(c) published on September 28, 2017 (82 FR 45187), are withdrawn effective November 20, 2017.

[FR Doc. 2017-25014 Filed 11-17-17; 8:45 am]

BILLING CODE 6560-50-P